DEPARTMENT OF HEALTH AND HUMAN SERVICES

Centers for Medicare & Medicaid Services

[CMS-1355-CN]

RIN 0938-AQ31

Medicare Program; Hospice Wage Index for Fiscal Year 2012; Correction

AGENCY: Centers for Medicare & Medicaid Services (CMS), HHS.

ACTION: Correction of notice of CMS ruling.

SUMMARY: This document corrects technical errors that appeared in the notice of CMS ruling published in the Federal Register on May 9, 2011 entitled “Hospice Wage Index for Fiscal Year 2012”.

DATES: Effective Date: This document is effective on May 9, 2011.

FOR FURTHER INFORMATION CONTACT: Lori Anderson, (410) 786-6190. Randy Throndset, (410) 786-0131.

SUPPLEMENTARY INFORMATION:

I. Background

In FR Doc. 2011-10694 of May 9, 2011 (76 FR 26731), there were technical errors that are identified and corrected in the Correction of Errors section below. The provisions in this correction notice are effective as if they had been included in the notice of CMS ruling published in the Federal Register on May 9, 2011. Accordingly, the corrections are effective May 9, 2011.

II. Summary of Errors

The title of the notice of CMS Ruling published in the Federal Register on May 9, 2011 (76 FR 26731) was incorrectly titled as “Hospice Wage Index for Fiscal Year 2012”. We note that the title should have been “Hospice Appeals for Review of an Overpayment Determination”, to coincide with the ruling posted on our CMS Web site on April 14, 2011. In addition, the effective date of the notice of CMS Ruling was incorrectly listed. We are correcting the date by changing it from “April 14, 2011” to “May 9, 2011”, the date it was published in the Federal Register.

III. Correction of Errors

In FR Doc. 2011-10694 of May 9, 2011 (76 FR 26731), make the following corrections:

1. On page 26731, in the second column, in the heading, change the title of the notice of CMS ruling from “Hospice Wage Index for Fiscal Year 2012” to “Hospice Appeals for Review of an Overpayment Determination”.

2. On page 26731, in the second column, under “Dates: Effective Date:” change the effective date from “April 14, 2011” to “May 9, 2011”.

Therefore, for reasons noted below, we find good cause to waive proposed rulemaking and the 30 day delayed effective date for the technical corrections in this notice. This notice merely provides technical corrections to the title and the effective date of the Notice of CMS ruling that was published in the Federal Register on May 9, 2011, and does not make substantive changes to the notice or to the CMS Ruling. Specifically, this correction notice corrects the title of the notice of CMS ruling from “Hospice Wage Index for Fiscal Year 2012” to “Hospice Appeals for Review of an Overpayment Determination,” to conform the title of the notice of CMS ruling to the title of CMS Ruling 1355-R; it also corrects the effective date of the notice of CMS ruling from the date the Ruling was signed to the date the notice of CMS ruling was published in the Federal Register. Since this notice merely makes technical corrections to the title and effective date of the Notice of CMS ruling, we believe it is unnecessary to undergo further notice and comment procedures. In addition, we believe it is in the public interest to have the correct information and to have it as soon as possible and not delay its dissemination. For the reasons stated above, we find that both notice and comment procedures and the 30-day delay in effective date for this correction document are unnecessary and contrary to the public interest. Therefore, we find there is good cause to waive notice and comment procedures and the 30-day delay in effective date for this correction document.

(Catalog of Federal Domestic Assistance Program No. 93.773, Medicare—Hospital Insurance; and Program No. 93.774, Medicare—Supplementary Medical Insurance Program)

Dated: July 15, 2011.
Dawn L. Smalls,
Executive Secretary to the Department.

[FR Doc. 2011-18424 Filed 7-21-11; 8:45 am]

BILLING CODE 4120-01-P